DEPARTMENT OF ENERGY

Federal Energy Regulatory Commission

[Docket No. CP01-439-000]

Columbia Gas Transmission Corporation; Notice of Application

September 7, 2001.

Take notice that on August 31, 2001, Columbia Gas Transmission Corporation (Columbia), 12801 Fair Lakes Parkway, Fairfax, Virginia 22030-0146, filed in Docket No. CP01-43-000, an application, pursuant to Sections 7(b) and (c) of the Natural Gas Act (NGA) and Part 157 of the Commission's Regulations for abandonment authorization and a certificate of public convenience and necessity authorizing the construction and operation of certain pipeline, compression and appurtenant facilities in New Jersey and Pennsylvania, all as more fully set forth in the application which is on file with the Commission and open to public inspection. Copies of this filing are on file with the Commission and are available for public inspection. This filing may also be viewed on the web at http://www.ferc.gov using the “RIMS” link, select “Docket#” and follow the instructions (call 202-208-2222 for assistance).

Columbia proposes to construct and operate the facilities in order to accommodate deliveries to a power plant being constructed by Mantua Creek Generating Company, L.P. (Mantua Creek) in Gloucester County, New Jersey. Specifically, Columbia proposes to construct 2.1 miles of 20-inch lateral pipeline in Gloucester County, New Jersey, 12.6 miles of pipeline loop (including 5.1 miles of 20-inch pipeline in Delaware County, Pennsylvania, and 7.5 miles of 20-inch pipeline in Gloucester County, New Jersey), 8.8 miles of 24-inch replacement pipeline in Chester County, Pennsylvania, and 0.3 mile of 24-inch replacement pipeline in Chester County. Columbia proposes to abandon 8.8 miles of 10-inch line in Chester County (to be replaced by the 8.8 miles of 24-inch line noted above) and 0.3 mile of 14-inch line in Chester County (to be replaced by the 0.3 mile of 24-inch line noted above).

Columbia also proposes to construct and operate a 6,000 horsepower (hp) compressor unit at the existing Eagle Compressor Station in Chester County, Pennsylvania, a 6,000 hp compressor unit at the existing Downingtown Compressor Station in Chester County, Pennsylvania, and a new measuring and regulating (M&R) station on the power plant property in Delaware County, Pennsylvania. Columbia proposes to provide firm transportation service for Mantua Creek, delivering 165,000 Dekatherms of natural gas per day to Mantua Creek's plant. Columbia estimates the total cost of the proposed facilities at $40,714,700, and requests rolled-in rate treatment for the project. Columbia requests that the Commission issue a certificate by April 1, 2002.

Any questions regarding this application should be directed to Fredric J. George, Certificates, at (304) 357-2359, Columbia Gas Transmission Company, PO Box 1273, Charleston, West Virginia 25325-1273.

There are two ways to become involved in the Commission's review of this project. First, any person wishing to obtain legal status by becoming a party to the proceedings for this project should, on or before September 28, 2001, file with the Federal Energy Regulatory Commission, 888 First Street, NE., Washington, DC 20426, a motion to intervene in accordance with the requirements of the Commission's Rules of Practice and Procedure (18 CFR 385.211 and 385.214) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. Comments and protests may be filed electronically via the internet in lieu of paper. See 18 CFR 385.2001(a)(1)(iii) and the Commission's website at http://www.ferc.fed.us/efi/doorbell.htm.

Persons who wish to comment only on the environmental review of this project should submit an original and two copies of their comments to the Secretary of the Commission. Environmental commenters will be placed on the Commission's environmental mailing list, will receive copies of environmental documents, and will be able to participate in meetings associated with the Commission's environmental review process. Commenters will not be required to serve copies of filed documents on all other parties. However, Commenters will not receive copies of all documents filed by other parties or issued by the Commission, and will not have the right to seek rehearing or appeal the Commission's final order to a Federal court.

The Commission will consider all comments and concerns equally, whether filed by commenters or those requesting intervenor status.

The Commission may issue a preliminary determination on non-environmental issues prior to the completion of its review of the environmental aspects of the project. This preliminary determination typically considers such issues as the need for the project and its economic effect on existing customers of the applicant, on other pipelines in the area, and ion landowners and communities. For example, the Commission considers the extent to which the applicant may need to exercise eminent domain to obtain rights-of-way for the proposed project and balances that against the non-environmental benefits to be provided by the project. Therefore, if a person has comments on community and landowner impacts from this proposal, it is important to file comments or to intervene as early in the process as possible.

If the Commission decides to set the application for a formal hearing before an Administrative Law Judge, the Commission will issue another notice describing that process. At the end of the Commission's review process, a final Commission order approving or denying a certificate will be issued.

Linwood A. Watson, Jr.,
Acting Secretary.

[FR Doc. 01-23097 Filed 9-14-01; 8:45 am]

BILLING CODE 6717-01-P